DEPARTMENT OF LABOR

Office of Workers' Compensation Programs

Proposed Extension of Existing Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents can be properly assessed. Currently, the Office of Workers' Compensation Programs is soliciting comments concerning the proposal to extend OMB approval of the information collection: Notice of Issuance of Insurance Policy (CM-921). A copy of the proposed information collection request can be obtained by contacting the office listed below in the addresses section of this Notice.

DATES: Written comments must be submitted to the office listed in the addresses section below on or before March 21, 2016.

ADDRESSES: Ms. Yoon Ferguson, U.S. Department of Labor, 200 Constitution Ave. NW., Room S-3323, Washington, DC 20210, telephone/FAX (202) 354-9647, Email ferguson.yoon@dol.gov. Please use only one method of transmission for comments (mail, fax, or Email).

SUPPLEMENTARY INFORMATION:

I. Background: Section 423 of the Black Lung Benefits Act, as amended, requires that a responsible coal mine operator be insured and outlines the items each contract of insurance must contain. It also enumerates the civil penalties to which a responsible coal mine operator is subject, should these procedures not be followed. Further, 20 CFR par V, subpart C, 726.208-213 requires that each insurance carrier shall report to the Division of Coal Mine Workers' Compensation (DCMWC) each policy and endorsement issued, cancelled, or renewed with respect to responsible operators. It states that this report will be made in such manner and on such a form as DCMWC may require. The CM-921 is the form completed by the insurance carrier and forwarded to DCMWC for review. It is also required that if a policy is issued or renewed for more than one operator, a separate report for each operator shall be submitted. This information collection is currently approved for use through July 31, 2016.

II. Review Focus: The Department of Labor is particularly interested in comments which:

* Evaluate whether the proposed collection of information is necessary for the proper performance of the functions of the agency, including whether the information will have practical utility;

* evaluate the accuracy of the agency's estimate of the burden of the proposed collection of information, including the validity of the methodology and assumptions used;

* enhance the quality, utility and clarity of the information to be collected; and

* minimize the burden of the collection of information on those who are to respond, including through the use of appropriate automated, electronic, mechanical, or other technological collection techniques or other forms of information technology, e.g., permitting electronic submissions of responses.

III. Current Actions: The Department of Labor seeks the approval for the extension of this currently-approved information collection in order to identify operators who have secured insurance for payment of black lung benefits as required by the Act.

Type of Review: Extension.

Agency: Office of Workers' Compensation Programs.

Title: Notice of Issuance of Insurance Policy.

OMB Number: 1240-0048.

Agency Number: CM-921.

Affected Public: Business or other for profit; Federal Government and State, Local or Tribal Government.

Total Respondents: 51.

Total Annual Responses: 3,500.

Estimated Time per Response: 10 minutes.

Frequency: Annually.

Estimated Total Burden Hours: 8

Total Burden Cost (capital/startup): $0.

Total Burden Cost (operating/maintenance): $29.

Comments submitted in response to this notice will be summarized and/or included in the request for Office of Management and Budget approval of the information collection request; they will also become a matter of public record.

Dated: January 14, 2016.
Yoon Ferguson,
Agency Clearance Officer, Office of Workers' Compensation Programs, US Department of Labor.

[FR Doc. 2016-01144 Filed 1-20-16; 8:45 am]

BILLING CODE 4510-CK-P